ENVIRONMENTAL PROTECTION AGENCY

40 CFR Part 52

[CA 242-0375; FRL-7522-3]

Revisions to the California State Implementation Plan, Imperial County Air Pollution Control District

AGENCY: Environmental Protection Agency (EPA).

ACTION: Proposed rule.

SUMMARY: EPA is proposing a limited approval and limited disapproval of a revision to the Imperial County Air Pollution Control District (ICAPCD) portion of the California State Implementation Plan (SIP). This revision concerns volatile organic compound (VOC) emissions from storage tanks used to store reactive organic compound (ROC) liquids. We are proposing action on a local rule that regulates this emission source under the Clean Air Act as amended in 1990 (CAA or the Act). We are taking comments on this proposal and plan to follow with a final action.

DATES: Any comments must arrive by August 6, 2003.

ADDRESSES: Mail or e-mail comments to Andy Steckel, Rulemaking Office Chief (AIR-4), U.S. Environmental Protection Agency, Region IX, 75 Hawthorne Street, San Francisco, CA 94105; steckel.andrew@epa.gov.

You can inspect copies of the submitted SIP revision and EPA's technical support document (TSD) at our Region IX office during normal business hours. You may also see copies of the submitted SIP revision at the following locations:

Environmental Protection Agency, Air Docket (6102), Ariel Rios Building, 1200 Pennsylvania Avenue, NW., Washington, DC 20460.

California Air Resources Board, Stationary Source Division, Rule Evaluation Section, 1001 “I” Street, Sacramento, CA 95814.

Imperial County Air Pollution Control District, 150 South 9th Street, El Centro, CA 92243.

A copy of the rule may also be available via the Internet at http://www.arb.ca.gov/drdb/drdbltxt.htm. Please be advised that this is not an EPA website and may not contain the same version of the rule that was submitted to EPA.

FOR FURTHER INFORMATION CONTACT: Al Petersen, U.S. Environmental Protection Agency, Region IX, (415) 947-4118.

SUPPLEMENTARY INFORMATION: Throughout this document, “we,” “us” and “our” refer to EPA.

Table of Contents

I. The State's Submittal

A. What rule did the State submit?

B. Are there other versions of this rule?

C. What is the purpose of the submitted rule revisions?

II. EPA's Evaluation and Action

A. How is EPA evaluating the rule?

B. Does the rule meet the evaluation criteria?

C. What are the rule deficiencies?

D. Proposed action and public comment.

III. Background Information

Why was this rule submitted?

IV. Statutory and Executive Order Reviews

I. The State's Submittal

A. What Rule Did the State Submit?

Table 1 lists the rule addressed by this proposal with the date that it was amended by the local air agency and submitted by the California Air Resources Board (CARB).

Table 1.—Submitted Rule
Local agency | Rule No. | Rule title | Revised | Submitted
ICAPCD | 414 | Storage of Reactive Organic Compound Liquids | 09/14/99 | 05/26/00

On October 6, 2000, this rule submittal was found to meet the completeness criteria in 40 CFR part 51 appendix V, which must be met before formal EPA review.

B. Are There Other Versions of This Rule?

We approved a version of Rules 413 and 414 into the SIP on January 27, 1981 (46 FR 8472).

C. What Is the Purpose of the Submitted Rule Revisions?

• The existing rule is rewritten for clarity.

• The scope of the rule is broadened to cover the storage of all reactive organic liquids, except gasoline, in a greater number of storage tanks.

• Added is an exemption for gasoline storage tanks because they are covered under ICAPCD Rule 415, Transfer and Storage of Gasoline. See 67 FR 65873 (October 29, 2002).

• Added is a limited exemption from requirements for vapor loss control devices for an emergency standby tank when the tank is drained or if the operator has obtained a variance for a breakdown of the primary tank.

• Added is a limited exemption from requirements for vapor loss control devices or closure devices for out-of-service or empty storage tanks undergoing cleaning, stock change, tank and roof repair, or removal of contaminated stock.

• Added is a 72-hour exemption from requirements for vapor loss control devices or closure devices for in-service tanks undergoing preventive maintenance, including, but not limited to primary seal inspection, removal or installation of a secondary seal, repairs of regulators, fittings, deck components, hatches, valves, roofs, flame arrestors, or compressors.

• Upgraded are requirements for gaps, seals, and roof covers based on federal standards of performance for volatile organic liquid storage and standards of performance for bulk gasoline terminals.

• Added is a table to specify appropriate vapor pressure and temperature for stored liquids.

• Added are recordkeeping requirements and test methods.

• Added is a compliance schedule for tanks requiring modification to meet the rule requirements. The TSD has more information about these rules.

II. EPA's Evaluation and Action

A. How Is EPA Evaluating the Rule?

Generally, SIP rules must be enforceable (see section 110(a) of the Act), must require Reasonably Available Control Technology (RACT) for major sources in nonattainment areas (see section 182(a)(2)(A)), and must not relax existing requirements (see sections 110(l) and 193). The ICAPCD regulates a transitional ozone nonattainment area subject to subpart 1 of part D, title I requirements. See 40 CFR part 81 and the discussion in the Background section of the TSD. We must require Rule 414 to correct relaxation and enforcement-related deficiencies, but the rule is not required to fulfill RACT.

Guidance and policy documents that we used to define specific enforceability and RACT requirements include the following:

• Portions of the proposed post-1987 ozone and carbon monoxide policy that concern RACT, 52 FR 45044 (November 24, 1987).

• Issues Relating to VOC Regulation Cutpoints, Deficiencies, and Deviations, EPA (May 25, 1988) (the Bluebook).

• Guidance Document for Correcting Common VOC & Other Rule Deficiencies, EPA Region 9 (August 21, 2001) (the Little Bluebook).

• Control of Volatile Organic Emissions from Petroleum Liquid Storage in External Floating Roof Tanks, EPA-450/2-78-047.

• Control of Volatile Organic Emissions from Petroleum Liquid Storage in Fixed Roof Tanks, EPA-450/2-77-036.

• State Implementation Plans: Policy Regarding Excess Emissions During Malfunctions, Startup and Shutdown, EPA Office of Air and Radiation and EPA Office of Enforcement and Compliance Assurance (September 20, 1999).

B. Does the Rule Meet the Evaluation Criteria?

This rule improves the SIP by broadening the scope of the rule to cover a greater number of ROC liquids (except gasoline, which is cover by SIP-approved ICAPCD Rule 415) in a greater number of storage tanks by lowering the applicability thresholds for vapor pressure and tank capacity. This rule also improves the SIP by adding testing methods and reporting and recordkeeping requirements. Rule provisions which do not meet the evaluation criteria are summarized below and discussed further in the TSD.

C. What Are the Rule Deficiencies?

These provisions conflict with section 110 and part D of the Act and prevent full approval of the SIP revision:

• 414.A.3.b: This paragraph refers to a variance for a breakdown of a primary tank. Variances are not allowed under section 110(i) of the CAA unless they are submitted as individual SIP revisions by a State and then approved by EPA.

• 414.A.3.b: The limited exemption to the provisions of subsections B.2 and B.3 for emergency standby tanks when they are drained was apparently intended instead to reference subsections B.2 and B.4, which require vapor loss control devices. The limited exemption represents a relaxation relative to existing SIP ICAPCD Rule 414, which had no such exemption, and may be inconsistent with sections 110(l) and 193 of the CAA. ICAPCD must demonstrate that the exemption complies with sections 110(l) and 193 of the CAA. To demonstrate compliance with sections 110(l) and 193, EPA recommends that ICAPCD review and revise this subsection of ICAPCD Rule 414 to be consistent with the principles set forth in EPA's excess emissions policy. This policy represents EPA's interpretation of how SIP rules can account for malfunction, start-up and shutdown conditions while continuing to provide for attainment or maintenance of the NAAQS in accordance with the relevant provisions under the CAA that govern SIP revisions (sections 110(l) and 193) as well as the relevant provisions that govern general SIP enforceability (sections 110(a)(2)(A) and 302(k)). EPA would approve a SIP revision that complies with the excess emissions policy, but EPA may also approve a revision that follows a different approach to addressing malfunction, start-up and shutdown conditions so long as ICAPCD can demonstrate that its preferred approach does not interfere with attainment or maintenance of the NAAQS, reasonable further progress, or any other applicable requirement of the CAA.

• 414.A.3.c: The limited exemption to the provisions of sections C, D, E, and F for out-of-service or empty storage tanks while they are undergoing cleaning, stock change, or tank or roof repairs, represents a relaxation relative to existing SIP ICAPCD Rule 414, which had no such exemption, and may be inconsistent with sections 110(l) and 193 of the CAA. To demonstrate compliance with sections 110(l) and 193, EPA recommends that ICAPCD review and revise this subsection of ICAPCD Rule 414 to be consistent with the principles set forth in EPA's excess emissions policy. This policy represents EPA's interpretation of how SIP rules can account for malfunction, start-up and shutdown conditions while continuing to provide for attainment or maintenance of the NAAQS in accordance with the relevant provisions under the CAA that govern SIP revisions (sections 110(l) and 193) as well as the relevant provisions that govern general SIP enforceability (sections 110(a)(2)(A) and 302(k)). EPA would approve a SIP revision that complies with the excess emissions policy, but EPA may also approve a revision that follows a different approach to addressing malfunction, start-up and shutdown conditions so long as ICAPCD can demonstrate that its preferred approach does not interfere with attainment or maintenance of the NAAQS, reasonable further progress, or any other applicable requirement of the CAA.

• 414.A.3.d.7: This subparagraph allows the Director discretion to extend the time of non-applicability of sections C, D, E, and F in a preventive maintenance beyond a 72-hour limit. Such discretion is inconsistent with the SIP-revision process described in section 110(a) of the CAA and the enforceability requirements of section (a)(2)(A).

• 414.J: The issue date of the ASTM methods cited in this section should preferably be updated. For example, D-287-82 could be D-287-92; D-323-82 could be D-323-94; D-2879-86 could be D-2879-96; and D-4057-88 could be D-4057-95.

• 414.J.1.c.6 and 414.J.1.c.7: The sampling methods in these paragraphs relate to the determination of vapor pressure where the API gravity of the oil is <20 degrees API gravity. However, the introductory paragraph J.1.c applies to >20 degrees API gravity. A new introductory paragraph is needed for <20 degrees API gravity. Furthermore, experience at the SBCAPCD has shown that these sampling methods do not work well in practice for <20 degrees API gravity, due to excessive viscosity of the sample. SBCAPCD recommends the HOST method, Test Method for Vapor Pressure of Reactive Organic Compounds in Heavy Crude Oil Using Gas Chromatography, for <20 degrees API gravity. See SBCAPCD Rule 326.K.1.b.

• 414.Table 1: There is an error in the maximum temperature for toluene, since the maximum temperature should be higher for 1.5 psia than for 0.5 psia.

D. Proposed Action and Public Comment

As authorized in sections 110(k)(3) and 301(a) of the CAA, EPA is proposing a limited approval of the submitted rule to improve the SIP. If finalized, this action would incorporate the submitted rule into the SIP, including those provisions identified as deficient, and hereby supercedes the related existing SIP Rules ICAPCD 413 and 414. This approval is limited because EPA is simultaneously proposing a limited disapproval of the rule under section 110(k)(3). If this disapproval is finalized, sanctions will be imposed under section 179 of the CAA unless EPA approves subsequent SIP revisions that correct the rule deficiencies within 18 months. These sanctions would be imposed according to 40 CFR 52.31. A final disapproval would also trigger the federal implementation plan (FIP) requirement under section 110(c). Note that the submitted rule has been adopted by the ICAPCD, and EPA's final limited disapproval would not prevent the local agency from enforcing it.

We will accept comments from the public on the proposed limited approval and limited disapproval for the next 30 days.

III. Background Information

Why Was This Rule Submitted?

VOCs help produce ground-level ozone and smog, which harm human health and the environment. Section 110(a) of the CAA requires states to submit regulations that control VOC emissions. Table 2 lists some of the national milestones leading to the submittal of this local agency rule.

Table 2.—Ozone Nonattainment Milestones
Date | Event
March 3, 1978 | EPA promulgated a list of ozone nonattainment areas under the Clean Air Act as amended in 1977. 43 FR 8964; 40 CFR 81.305.
May 26, 1988 | EPA notified Governors that parts of their SIPs were inadequate to attain and maintain the ozone standard and requested that they correct the deficiencies (EPA's SIP-Call). See section 110(a)(2)(H) of the pre-amended Act.
November 15, 1990 | Clean Air Act Amendments of 1990 were enacted. Pub. L. 101-549, 104 Stat. 2399, codified at 42 U.S.C. 7401-7671q.

IV. Statutory and Executive Order Reviews

A. Executive Order 12866, Regulatory Planning and Review

The Office of Management and Budget (OMB) has exempted this regulatory action from Executive Order 12866, entitled “Regulatory Planning and Review.”

B. Paperwork Reduction Act

This rule does not impose an information collection burden under the provisions of the Paperwork Reduction Act of 1995 (44 U.S.C. 3501 et seq.)

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co. v. U.S. EPA, 427 U.S. 246, 255-66 (1976); 42 U.S.C. 7410(a)(2).

D. Unfunded Mandates Reform Act

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action proposed does not include a Federal mandate that may result in estimated costs of $100 million or more to either State, local, or tribal governments in the aggregate, or to the private sector. This Federal action proposes to approve pre-existing requirements under State or local law, and imposes no new requirements. Accordingly, no additional costs to State, local, or tribal governments, or to the private sector, result from this action.

E. Executive Order 13132, Federalism

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

F. Executive Order 13175, Coordination With Indian Tribal Governments

Executive Order 13175, entitled “Consultation and Coordination with Indian Tribal Governments” (65 FR 67249, November 9, 2000), requires EPA to develop an accountable process to ensure “meaningful and timely input by tribal officials in the development of regulatory policies that have tribal implications.” This proposed rule does not have tribal implications, as specified in Executive Order 13175. It will not have substantial direct effects on tribal governments, on the relationship between the Federal government and Indian tribes, or on the distribution of power and responsibilities between the Federal government and Indian tribes. Thus, Executive Order 13175 does not apply to this rule.

G. Executive Order 13045, Protection of Children From Environmental Health Risks and Safety Risks

Protection of Children From Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

H. Executive Order 13211, Actions That Significantly Affect Energy Supply, Distribution, or Use

This rule is not subject to Executive Order 13211, “Actions Concerning Regulations That Significantly Affect Energy Supply, Distribution, or Use” (66 FR 28355, May 22, 2001) because it is not a significant regulatory action under Executive Order 12866.

I. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

List of Subjects in 40 CFR Part 52

Environmental protection, Air pollution control, Carbon monoxide, Intergovernmental relations, Ozone, Reporting and recordkeeping requirements, Volatile organic compound.

Authority: 42 U.S.C. 7401 et seq.

Dated: June 19, 2003.
Alexis Strauss,
Acting Regional Administrator, Region IX.

[FR Doc. 03-16926 Filed 7-3-03; 8:45 am]

BILLING CODE 6560-50-P